DEPARTMENT OF THE INTERIOR

Bureau of Indian Affairs

Advisory Board for Exceptional Children

AGENCY: Bureau of Indian Affairs, Interior.

ACTION: Notice of meeting.

SUMMARY: In accordance with the Federal Advisory Committee Act, the Bureau of Indian Affairs is announcing that the Advisory Board for Exceptional Children will hold its next meeting in Denver, Colorado. The purpose of the meeting is to meet the mandates of the Individuals with Disabilities Education Improvement Act of 2004 on Indian children with disabilities.

DATES: The Board will meet on Saturday, July 22, 2006, from 6 p.m. to 9 p.m., Sunday, July 23, 2006, from 8 a.m. to 4 p.m., and Monday July 24, 2006, from 8 a.m. to 4 p.m. Local Time.

ADDRESSES: The meetings will be held at the Marriott Denver Tech Center, 4900 South Syracuse, Denver, Colorado 80237.

Written statements may be submitted to Mr. Thomas M. Dowd, Director, Bureau of Indian Affairs, Office of Indian Education Programs, 1849 C Street, NW., Mail Stop 3609-MIB, Washington, DC 20240; Telephone (202) 208-6123; Fax (202) 208-3312.

FOR FURTHER INFORMATION CONTACT: Lyann Barbero, Acting Supervisor, Education Specialist—Special Education, Bureau of Indian Affairs, Office of Indian Education Programs, Division of Compliance, Monitoring and Accountability, P.O. Box 1088, Suite 332, Albuquerque, New Mexico 87104; Telephone (505) 563-5270.

SUPPLEMENTARY INFORMATION: The Advisory Board was established to advise the Secretary of the Interior, through the Assistant Secretary—Indian Affairs, on the needs of Indian children with disabilities, as mandated by the Individuals with Disabilities Education Improvement Act of 2004 (Pub. L. 108-446).

The following items will be on the agenda:

• State Performance Plan.

• Special Education Supervisor Report.

• Part B allocation.

• Parent Involvement Activities.

• Updates on priority issues.

• Office of Special Education new organizational information.

• Compliance and Monitoring.

• Procedural Safeguards.

• Title Programs.

• Institutionalized Handicapped Program.

• Coordinated Service Plan.

• Update on meeting between State Education Agency and Bureau of Indian Affairs.

The meetings are open to the public. The Advisory Board will accept public comments during a teleconference session.

Dated: June 15, 2006.
Debbie Clark,
Acting Principal Deputy Assistant Secretary—Indian Affairs.

[FR Doc. 06-5581 Filed 6-21-06; 8:45 am]

BILLING CODE 4310-6W-M